DEPARTMENT OF ENERGY

Proposed Emergency Agency Information Collection

AGENCY: U.S. Department of Energy.

ACTION: Notice and request for comments.

SUMMARY: The Department of Energy (DOE) invites public comment on a proposed emergency collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 4, 2010. Comments should be specific in nature and indicate as precisely as possible the applicable guidance documents. If you anticipate difficulty in submitting comments within that period, contact the person listed below as soon as possible.

ADDRESSES: Written comments may be sent to DOE Desk Officer, Office of Information and Regulatory Affairs, Office of Management and Budget, New Executive Office Building, Room 10102, 725 17th Street, NW., Washington, DC 20503; and Frank Norcross, EE-2K, U.S. Department of Energy, 1000 Independence Ave., SW., Washington, DC 20585-1290, Fax#: (202) 586-1233, frank.norcross@ee.doe.gov.

FOR FURTHER INFORMATION CONTACT: Requests for additional information or copies of the information collection instrument and instructions should be directed to Frank Norcross, EE-2K, U.S. Department of Energy, 1000 Independence Ave., SW., Washington, DC 20585-1290, Fax#: (202) 586-1233, frank.norcross@ee.doe.gov.

Draft reporting guidance concerning the Energy Efficiency and Conservation Block Grant (EECBG) Program, Weatherization Assistance Program (WAP), and State Energy Program (SEP) will be available for review at the following Web site: http://www.eere.energy.gov/wip/draft_recovery_act_reporting_guidance.cfm.

SUPPLEMENTARY INFORMATION: This emergency information collection request contains: (1) OMB No.: New; (2) Information Collection Request Title: Energy Efficiency and Conservation Block Grant (EECBG) Program Status Report; (3) Type of Request: Emergency; (4) Purpose: The information collected is used by program staff to track the recipients' activities, their progress in achieving scheduled milestones, and funds expended. The information is vital to identifying and addressing deficiencies in project execution within an appropriate timeframe. The information also enables program staff to provide required or requested information on program activities to OMB, Congress and the public; (5) Annual Estimated Number of Respondents: 2,357; (6) Annual Estimated Number of Total Responses: 28,284; (7) Annual Estimated Number of Burden Hours: 85,524; and (8) Annual Estimated Reporting and Recordkeeping Cost Burden: $3,985.

Statutory Authority: Title V, Subtitle E of the Energy Independence and Security Act of 2007 (EISA; Pub. L. 110-140) establishes the EECBG Program under which DOE makes funds available to States, units of local government, and Indian tribes to develop and implement projects to improve energy efficiency and reduce energy use and fossil fuel emissions in their communities.

Issued in Washington, DC on January 15, 2010.
Cathy Zoi,
Assistant Secretary, Energy Efficiency and Renewable Energy.

[FR Doc. 2010-1057 Filed 1-20-10; 8:45 am]

BILLING CODE 6450-01-P